DEPARTMENT OF TRANSPORTATION

Federal Aviation Administration

Notice of Intent To Rule on Application To Impose and Use the Revenue From a Passenger Facility Charge (PFC) at Juneau International Airport, Anchorage, AK

AGENCY: Federal Aviation Administration (FAA) DOT.

ACTION: Notice of intent to rule on application.

SUMMARY: The FAA proposes to rule and invites public comment on the application to impose and use the revenue from a PFC at Juneau International Airport under the provisions of the Aviation Safety and Capacity Expansion Act of 1990 (Title IX of the Omnibus Budget Reconciliation Act of 1990) (Public Law 101-508) and Part 158 of the Federal Aviation Regulations (14 CFR Part 158).

DATES: Comments must be received on or before March 3, 2000.

ADDRESSES: Comments on this application may be mailed or delivered in triplicate to the FAA at the following address: Ronnie V. Simpson, Manager, Alaskan Region Airports Division, 222 West 7th, Box 14, Anchorage, AK 99513-7587.

In addition, one copy of any comments submitted to the FAA must be mailed or delivered to Allan A. Heese, Acting Airport Manager, at the following address: Juneau International Airport, 1873 Shell Simmons Drive, Juneau, AK 99801.

Air carriers and foreign air carriers may submit copies of written comments previously provided to the Juneau International Airport under section 158.23 of Part 158.

FOR FURTHER INFORMATION CONTACT: Debbie Roth, Program Specialist, Alaskan Region Airports Division, Planning and Programming Branch, AAL-611A, 222 W 7th, Box 14, Anchorage, AK, 99513, 907 271-5443. The application may be reviewed in person at this same location.

SUPPLEMENTARY INFORMATION: The FAA proposes to rule and invites public comment on the application (#00-02-C-00-JNU) to impose and use the revenue from a PFC at Juneau International Airport under the provisions of the Aviation Safety and Capacity Expansion Act of 1990 (Title IX of the Omnibus Budget Reconciliation Act of 1990) (Pub. L. 101-508) and Part 158 of the Federal Aviation Regulations (14 CFR part 158).

On January 10, 2000, the FAA determined that the application to impose and use the revenue from a PFC submitted by the City and Borough of Juneau, Juneau International Airport, Juneau, Alaska, was substantially complete within the requirements of section 158.25 of part 158. The FAA will approve or disapprove the application, in whole or in part, no later than May 5, 2000.

The following is a brief overview of the application.

Application number: 00-02-C-00-JNU.

Level of the proposed PFC: $3.00.

Proposed charge effective date: June 1, 2000.

Proposed charge expiration date: April 30, 2001.

Total estimated PFC revenue: $501,662.

Brief description of proposed projects: Acquire security access control equipment; Acquire snow removal equipment; Replace terminal carpeting; Upgrade access roads; Relocate ASOS; Acquire security vehicle.

Class or classes of air carriers which the public agency has requested not be required to collect PFCs: All air carriers while operating on essential air service (EAS) routes from Juneau that do not receive essential air service compensation; All current air carriers enplaning 1,000 or less passengers annually from Juneau as published in the most current Air Carrier Activity Information System (ACAIS) Database.

Note: All carriers receiving essential air service compensation on designated essential air service routes are exempt by section 158.9A of Part 158.

Any person may inspect the application in person at the FAA office listed above under FOR FURTHER INFORMATION CONTACT located at the FAA, Alaskan Region Airports Division, Anchorage, Alaska.

In addition, any person may, upon request, inspect the application, notice and other documents germane to the application in person at the Juneau International Airport, 1873 Shell Simmons Drive, Juneau, AK 99801.

Issued in Anchorage, Alaska on January 18, 2000.
Ronnie V. Simpson,
Manager, Airports Division, Alaskan Region.

[FR Doc. 00-2261 Filed 2-1-00; 8:45 am]

BILLING CODE 4910-13-M